DEPARTMENT OF HOMELAND SECURITY

Federal Emergency Management Agency

44 CFR Part 67

[Docket ID FEMA-2010-0003; Internal Agency Docket No. FEMA-B-1105]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1105, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Christian County, Illinois, and Incorporated Areas
Sangamon River | Approximately 1,350 feet downstream of 1725 East Road extended | None | +574 | Unincorporated Areas of Christian County.
| Approximately 200 feet upstream of Meridan Road extended | None | +587
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
Unincorporated Areas of Christian County
Maps are available for inspection at the Christian County Courthouse, 101 South Main Street, Taylorville, IL 62568.
Knox County, Illinois, and Incorporated Areas
Cedar Creek | Approximately 0.51 mile upstream of West Knox Road | None | +731 | City of Galesburg, Unincorporated Areas of Knox County.
| Approximately 350 feet upstream of Farnham Street | None | +777
Spoon River | Approximately 0.47 mile downstream of Knox County Highway 39 | None | +537 | Unincorporated Areas of Knox County.
| Approximately 0.39 mile upstream of Knox County Highway 39 | None | +538
Tributary to Swegle Creek | Approximately 1,200 feet upstream of Terwilliger Street extended | None | +539 | Unincorporated Areas of Knox County.
| Approximately 1,260 feet upstream of Terwilliger Street extended | None | +539
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Galesburg
Maps are available for inspection at City Hall, 55 West Tompkins Street, Galesburg, IL 61401.
Unincorporated Areas of Knox County
Maps are available for inspection at the Knox County Courthouse, 200 South Cherry Street, Galesburg, IL 61401.
Piatt County, Illinois, and Incorporated Areas
North East Tributary | Approximately 200 feet downstream of State Street | None | +652 | City of Monticello, Unincorporated Areas of Piatt County.
| Approximately at the downstream side of State Street | None | +656
North Unnamed Creek | Approximately 1,000 feet downstream of Front Street | None | +646 | City of Monticello, Unincorporated Areas of Piatt County.
| Approximately 940 feet upstream of Market Street | None | +650
Sangamon River | Approximately 2.52 miles downstream of the abandoned railroad bridge in the City of Monticello | None | +644 | City of Monticello, Unincorporated Areas of Piatt County.
| Approximately at the downstream side of the railroad | None | +649
Unnamed Tributary to Sangamon River | At the confluence with the Sangamon River | None | +645 | City of Monticello, Unincorporated Areas of Piatt County.
| Approximately 610 feet upstream of County Farm Road | None | +645
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Monticello
Maps are available for inspection at City Hall, 210 North Hamilton Street, Monticello, IL 61856.
Unincorporated Areas of Piatt County
Maps are available for inspection at the Piatt County Courthouse, 101 West Washington Street, Monticello, IL 61856.
Franklin County, Kansas, and Incorporated Areas
Marias des Cygnes River | At South East Street | None | +882 | City of Rantoul
| Approximately 800 feet upstream of Vermont Road | None | +882
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Rantoul
Maps are available for inspection at 120 East Main Street, Rantoul, KS 66079.
Howell County, Missouri, and Incorporated Areas
Burton Branch | Approximately 2,200 feet upstream of Davis Lane | None | +1022 | City of West Plains, Unincorporated Areas of Howell County.
| Approximately 3,700 feet upstream of Davis Lane | None | +1031
Drainage Ditch Number 1 | Approximately 315 feet upstream of the City of Willow Springs corporate limits | None | +1255 | Unincorporated Areas of Howell County.
| Approximately 3,400 feet upstream of the City of Willow Springs corporate limits | None | +1279
Drainage Ditch Number 4 | Approximately 1,300 feet upstream of U.S. Route 60/63 | None | +1197 | City of Willow Springs, Unincorporated Areas of Howell County.
| Approximately 525 feet upstream of County Road 3280 | None | +1225
Eleven Point River | Approximately 1,500 feet downstream of the City of Willow Springs corporate limits | None | +1183 | City of Willow Springs, Unincorporated Areas of Howell County
| Approximately 425 feet upstream of the City of Willow Springs corporate limits | None | +1289
Jam Up Creek | Approximately at Country Road 3160 | None | +1098 | Unincorporated Areas of Howell County
| Approximately 100 feet upstream of Country Road 3890 | None | +1099
Mustion Creek | Approximately 330 feet downstream of the City of West Plains corporate limits | None | +997 | Unincorporated Areas of Howell County.
| Approximately 160 feet downstream of the City of West Plains corporate limits | None | +998
South Fork Howell Creek | Just upstream of Katherine Street | None | +1025 | Unincorporated Areas of Howell County.
| Approximately 400 feet upstream of Katherine Street | None | +1027
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of West Plains
Maps are available for inspection at 1910 Holiday Lane, West Plains, MO 65775.
City of Willow Springs
Maps are available for inspection at 900 West Main Street, Willow Springs, MO 65793.
Unincorporated Areas of Knox County
Maps are available for inspection at 4 Courthouse, West Plains, MO 65775.
Johnson County, Missouri, and Incorporated Areas
Clear Fork | Approximately 550 feet downstream of County Road 751 | None | +701 | City of Knob Noster, Unincorporated Areas of Johnson County.
| Approximately 1,750 feet upstream of U.S. Route 50 | None | +724
Hughes Branch | Approximately 550 feet downstream of County Road 75 | None | +737 | Unincorporated Areas of Johnson County.
| Approximately 100 feet upstream of State Highway 132 | None | +745
| Approximately 200 feet upstream of State Street | None | +769
| Approximately 2,000 feet upstream of State Street | None | +778
Tributary 2 | Approximately 50 feet downstream of State Highway 132 | None | +749 | Unincorporated Areas of Johnson County.
| Approximately 300 feet upstream of State Highway 132 | None | +750
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Knob Noster
Maps are available for inspection at 218 North State Street, Knob Noster, MO 65336.
Unincorporated Areas of Johnson County
Maps are available for inspection at 122 Hout Street, Suite A, Warrensburg, MO 64093.
Lawrence County, Missouri, and Incorporated Areas
Kelly Creek Tributary | Approximately 300 feet upstream of the City of Monett corporate limits | None | +1370 | Unincorporated Areas of Lawrence County.
| Approximately 1,600 feet upstream of the City of Monett corporate limits | None | +1390
Tributary No 1 | Approximately 50 feet upstream of the confluence with Unnamed Tributary | None | +1326 | Unincorporated Areas of Lawrence County.
| Approximately 275 feet upstream of State Highway 37 | None | +1333
Unnamed Tributary | Approximately 200 feet upstream of the county boundary | None | +1290 | Unincorporated Areas of Lawrence County.
| Approximately 40 feet downstream of the City of Monett corporate limits | None | +1335
Unnamed Tributary Number 1 | Approximately 200 feet downstream of Washington Avenue | None | +1372 | City of Aurora.
| Approximately 525 feet upstream of Union Street | None | +1406
Unnamed Tributary Number 2 | Approximately 600 feet upstream of South Street | None | +1359 | City of Aurora.
| Approximately 100 feet upstream of Prospect Street | None | +1402
Unnamed Tributary Number 3 | Approximately 250 feet upstream of the confluence with Unnamed Tributary Number 2 | None | +1376 | City of Aurora.
| At Tyler Drive | None | +1390
Unnamed Tributary Number 4 | Approximately 215 feet upstream of Saint Louis Street | None | +1361 | City of Aurora.
| Approximately 650 feet upstream of Lincoln Avenue | None | +1381
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
City of Aurora
Maps are available for inspection at 2 West Pleasant Street, Aurora, MO 65605.
Unincorporated Areas of Lawrence County | Maps are available for inspection at 1 East Courthouse Square, Mt. Vernon, MO 65712.

(Catalog of Federal Domestic Assistance No. 97.022, “Flood Insurance.”)

Dated: May 14, 2010.
Sandra K. Knight,
Deputy Federal Insurance and Mitigation Administrator, Mitigation, Department of Homeland Security, Federal Emergency Management Agency.

[FR Doc. 2010-13268 Filed 6-2-10; 8:45 am]

BILLING CODE 9110-12-P